DEPARTMENT OF HOUSING AND URBAN DEVELOPMENT

[Docket No. FR-4800-FA-20]

Announcement of Funding Awards for the Community Development Technical Assistance Programs Fiscal Year 2003

AGENCY: Office of the Assistant Secretary for Community Planning and Development, HUD.

ACTION: Notice of funding awards.

SUMMARY: In accordance with section 102(a)(4)(C) of the Department of Housing and Urban Development Reform Act of 1989, this announcement notifies the public of funding decisions made by the Department in a competition for funding under the Notice of Funding Availability (NOFA) for the Community Development Technical Assistance programs. This announcement contains the names of the awardees and the amounts of the awards made available by HUD.

FOR FURTHER INFORMATION CONTACT: Mark A. Horwath, Director, Office of Technical Assistance and Management, Office of Community Planning and Development, 451 Seventh Street, SW., Room 7218, Washington, DC 20410-7000; telephone (202) 708-3176 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Fiscal Year 2003 Community Development Technical Assistance program is designed to increase the effectiveness of HUD's HOME Investment Partnerships Program (HOME), McKinney-Vento Homeless Assistance programs (Homeless), and Housing Opportunities for Persons with AIDS (HOPWA) program through the selection of technical assistance (TA) providers for these three programs.

The competition was announced in the SuperNOFA published April 25, 2003 (68 FR 21085). The NOFA allowed for approximately $22,900,000 for CD-TA grants. Applications were rated and selected for funding on the basis of selection criteria contained in that Notice.

For the Fiscal Year 2003 competition, a total of $9,870,481 was awarded to 51 technical assistance providers nationwide.

In accordance with section 102(a)(4)(C) of the Department of Housing and Urban Development Reform Act of 1989 (103 Stat. 1987, 42 U.S.C. 3545), the Department is publishing the grantees and the amounts of the awards in Appendix A to this document.

Dated: August 3, 2006.
Nelson R. Bregon,
General Deputy Assistant Secretary for Community Planning and Development.

Fiscal Year 2003 Funding Awards for Community Development Technical Assistance Programs
Recipient | State | Amount
State of Alaska, Alaska Housing Finance Corporation | AK | $50,000.00
Rural Community Assistance Corporation | CA | 142,100.00
Dennison Associates, Inc. | DC | 329,670.00
National Affordable Housing Training Institute | DC | 500,000.00
Tonya, Inc. | DC | 1,111,607.00
Florida Planning Group, Inc. | FL | 29,800.00
Chicago Rehab Network | IL | 78,500.00
Abt Associates, Inc. | MA | 45,000.00
The Enterprise Foundation | MD | 105,966.00
Coastal Enterprises, Inc. | ME | 25,000.00
State of Michigan Dept. of Consumer & Industry Services | MI | 119,800.00
Minnesota Housing Partnership | MN | 50,000.00
Training and Development Associates, Inc. | NC | 232,800.00
Supportive Housing Network of New York | NY | 20,312.00
Ohio CDC Association | OH | 67,130.00
Neighborhood Partnership Fund | OR | 30,300.00
Capital Access, Inc. | PA | 50,000.00
Puerto Rico Community Foundation | PR | 61,400.00
Community Development Services | TN | 20,000.00
ICF, Inc. | VA | 1,759,677.00
Common Ground | WA | 58,300.00
Northwest Regional Facilitators | WA | 25,000.00
Urban Economic Development Association of Wisconsin, Inc. | WI | 40,932.00
Wisconsin Partnership for Housing Development, Inc. | WI | 20,468.00
Home Total |  | 4,973,762.00
State of Alaska, Alaska Housing Finance Corporation | AL | 40,000.00
HomeBase/The Center for Common Concerns | CA | 142,000.00
Colorado Coalition for the Homeless | CO | 40,000.00
National Puerto Rican Coalition, Inc. | DC | 12,000.00
Tonya, Inc. | DC | 1,019,193.00
Florida Planning Group, Inc. | FL | 20,000.00
Iowa Coalition for Housing and the Homeless | IA | 20,676.00
Chicago Health Outreach | IL | 46,922.00
Illinois Community Action Association | IL | 30,000.00
Technical Assistance Collaborative, Inc. | MA | 222,000.00
The Enterprise Foundation | MD | 128,000.00
Minnesota Housing Partnership | MN | 52,000.00
Training and Development Associates, Inc. | NC | 119,928.00
New Mexico Coalition to End Homelessness | NM | 40,000.00
Corporation for Supportive Housing | NY | 218,000.00
Nassau Suffolk Coalition for the Homeless | NY | 99,949.00
New York State Rural Housing Coalition, Inc. | NY | 57,000.00
Supportive Housing Network of New York | NY | 139,051.00
Coalition on Homelessness and Housing in Ohio | OH | 104,000.00
Diana T. Myers and Associates, Inc. | PA | 57,000.00
Homeless Network of Texas dba Texas Homeless Network | TX | 128,000.00
AIDS Housing of Washington | WA | 50,000.00
John Epler and Associates | WA | 40,000.00
Low Income Housing Institute | WA | 67,000.00
Urban Economic Development Association of Wisconsin, Inc. | WI | 54,000.00
Homeless Total |  | 2,946,719.00
The Enterprise Foundation | MD | 200,000.00
AIDS Housing of Washington | WA | 1,750,000.00
HOPWA Total |  | 1,950,000.00
Total |  | 9,870,481.00

[FR Doc. E6-13380 Filed 8-15-06; 8:45 am]

BILLING CODE 4210-67-P